ENVIRONMENTAL PROTECTION AGENCY

[OA-2003-0001; FRL-7521-7]

Agency Information Collection Activities; Submission of EPA ICR No. 1949.02 (OMB No. 2010-0032) to OMB for Review and Approval; Comment Request

AGENCY: Environmental Protection Agency.

ACTION: Notice.

SUMMARY: In compliance with the Paperwork Reduction Act (44 U.S.C. 3501 et seq.), this document announces that the following Information Collection Request (ICR) has been forwarded to the Office of Management and Budget (OMB) for review and approval: National Environmental Performance Track Program. This ICR describes the nature of the information collection and its estimated burden and cost.

DATES: Additional comments may be submitted on or before August 1, 2003.

ADDRESSES: Follow the detailed instructions in SUPPLEMENTARY INFORMATION.

FOR FURTHER INFORMATION CONTACT: Robert D. Sachs, Office of Policy, Economics and Innovation, Mail Code 1808T, Environmental Protection Agency, 1200 Pennsylvania Ave., NW., Washington, DC 20460; telephone number: 202-566-2884; fax number: 202-566-0966; email address sachs.robert@epa.gov.

SUPPLEMENTARY INFORMATION: EPA has submitted the following ICR to OMB for review and approval according to the procedures prescribed in 5 CFR 1320.12. On January 27, 2003, 68 FR 3879, EPA sought comments on this ICR pursuant to 5 CFR 1320.8(d). EPA received no relevant comments.

EPA has established a public docket for this ICR under Docket ID No. OA-2003-0001, which is available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information Docket is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to OMB and EPA within 30 days of this notice, and according to the following detailed instructions: (1) Mail your comments to OMB at: Office of Information and Regulatory Affairs, Office of Management and Budget (OMB), Attention: Desk Officer for EPA, 725 17th Street, NW., Washington, DC 20503 and (2) Submit your comments to EPA online using EDOCKET (our preferred method), by email to oei.docket@epa.gov, or by mail to: EPA Docket Center, Environmental Protection Agency, Office of Environmental Information Docket, Mail Code 28221T, 1200 Pennsylvania Ave., NW., Washington, DC 20460.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: National Environmental Performance Track Program (OMB Control Number 2010-0032, EPA ICR Number 1949.02). This is a request to renew an existing approved collection that is scheduled to expire on June 30, 2003. Under OMB regulations, the Agency may continue to conduct or sponsor the collection of information while this submission is pending at OMB.

Abstract: EPA announced the National Environmental Performance Track Program on June 26, 2000. The program is designed to recognize and encourage facilities that consistently meet their legal requirements, that have implemented management systems to monitor and improve performance, that have voluntarily achieved environmental improvements beyond compliance, and that publicly commit to specific environmental improvements and report on progress. Applications submitted by facilities are used by EPA and participating regulatory entities to determine whether the applicant qualifies for the program. A total of 304 facilities are current members of this voluntary program. Environmental Performance Track members are also required to submit an annual performance report documenting their environmental performance relative to the commitments they made upon entry into the program. This information is important to determine whether participants are meeting their commitments, as well as to evaluate the effectiveness of the program. The public reporting elements of the program also provide information to the local community.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 268 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. For this ICR, EPA considers facilities that are members of the Performance Track program to be respondents.

Respondents/Affected Entities: Public and private facilities/entities that consistently meet their legal requirements, that have implemented management systems to monitor and improve performance, that have voluntarily achieved environmental improvements beyond compliance, and that publicly commit to specific environmental improvements and report on progress.

Estimated Number of Respondents: 513, the average calculated from years 1, 2 and 3 projections of 404, 505 and 631 respondents.

Frequency of Response: Annually.

Estimated Total Annual Hour Burden: 109,445.

Estimated Total Annual Cost: $6,735,712 includes $0 annualized capital or O&M costs.

Changes in the Estimates: There is an increase of 58,995 hours in the total estimated burden currently identified in the OMB Inventory of Approved ICR Burdens. This increase is based on the estimated growth in membership in the National Environmental Performance Track Program.

Dated: June 18, 2003.
Doreen Sterling, Acting Director,
Collection Strategies Division.

[FR Doc. 03-16732 Filed 7-1-03; 8:45 am]

BILLING CODE 6560-50-P